ENVIRONMENTAL PROTECTION AGENCY

[OW-2004-0038; FRL-7989-1]

Agency Information Collection Activities; Submission to OMB for Review and Approval; Comment Request; Survey of Airport Deicing Operations, EPA ICR Number 2171.01

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request for a new collection. This ICR describes the nature of the information collection and its estimated burden and cost.

DATES: Additional comments may be submitted on or before November 25, 2005.

ADDRESSES: Submit your comments, referencing docket ID number OW-2004-0038, to (1) EPA online using E-Docket (our preferred method), by e-mail to ow-docket@epa.gov, or by mail to: EPA Docket Center, Environmental Protection Agency, Water Docket, EPA West, 4101T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Eric Strassler, Engineering & Analysis Division, Office of Water, Mail Code 4303T, Environmental Protection Agency, 1200 Pennsylvania Ave., NW., Washington, DC 20460; telephone number: (202) 566-1026; fax number: (202) 566-1053; e-mail address: strassler.eric@epa.gov.

SUPPLEMENTARY INFORMATION: EPA has submitted the following ICR to OMB for review and approval according to the procedures prescribed in 5 CFR 1320.12. On March 17, 2005 (70 FR 13025), EPA sought comments on this ICR pursuant to 5 CFR 1320.8(d). EPA has addressed the comments received in the supporting statement of this ICR.

EPA has established a public docket for this ICR under Docket ID No. OW-2004-0038, which is available for public viewing at the Water Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Water Docket is (202) 566-2426. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Survey of Airport Deicing Operations.

Abstract: EPA is developing wastewater discharge standards, called “effluent guidelines,” for airports pursuant to the Agency's 2004 Effluent Guidelines Plan (69 FR 53719, September 2, 2004). The focus of the rulemaking is on wastewater discharges from aircraft and airport pavement deicing operations. EPA will send survey questionnaires to a sample of airports and airlines to help the Agency compile a national assessment of deicing operations. Three questionnaires will be used: A detailed airport questionnaire, a short “screener” airline questionnaire, and a detailed airline questionnaire. The detailed questionnaires will include questions on the deicing technologies employed, amount of deicing chemicals used, pollution prevention techniques, and economic and financial information. The airline screener will ask airlines whether they deice their own aircraft at specified locations, or if another party conducts the deicing operation. EPA will use the screener results to select airline locations for responding to the detailed airline questionnaire. Completion of this one-time survey will be mandatory pursuant to section 308 of the Clean Water Act.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 62 hours for airport questionnaire respondents, 21 hours for airline detailed questionnaire respondents, and 5.5 hours for airline screener respondents to complete and review their responses to the questionnaire and associated data submissions. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Airports and airlines that perform deicing and anti-icing on aircraft and/or airfield pavement.

Estimated Number of Respondents: 290.

Frequency of Response: One time response.

Estimated Total Annual Hour Burden: 20,851 hours.

Estimated Total Annual Cost: $871,998, includes $0 annualized capital expenditure and $8,134 Respondent O&M costs.

Dated: October 19, 2005.
Sara Hisel-McCoy,
Acting Director, Collection Strategies Division.

[FR Doc. 05-21374 Filed 10-25-05; 8:45 am]

BILLING CODE 6560-50-P